DEPARTMENT OF HEALTH AND HUMAN SERVICES

Office of the Secretary

Annual Update of the HHS Poverty Guidelines

AGENCY: Department of Health and Human Services.

ACTION: Notice.

SUMMARY: This notice provides an update of the HHS poverty guidelines to account for last (calendar) year's increase in prices as measured by the Consumer Price Index.

EFFECTIVE DATE: These guidelines go into effect on the day they are published (unless an office administering a program using the guidelines specifies a different effective date for that particular program).

ADDRESSES: Office of the Assistant Secretary for Planning and Evaluation, Room 404E, Humphrey Building, Department of Health and Human Services (HHS), Washington, DC 20201.

FOR FURTHER INFORMATION CONTACT: For information about how the poverty guidelines are used or how income is defined in a particular program, contact the Federal (or other) office that is responsible for that program.

For general questions about the poverty guidelines (but NOT for questions about a particular program that uses the poverty guidelines), contact Gordon Fisher, Office of the Assistant Secretary for Planning and Evaluation, Room 404E, Humphrey Building, Department of Health and Human Services, Washington, DC 20201—telephone: (202) 690-7507; persons with Internet access may visit the poverty guidelines Internet site at http://aspe.hhs.gov/poverty.

For information about the Hill-Burton Uncompensated Services Program (no-fee or reduced-fee health care services at certain hospitals and other health care facilities for certain persons meeting eligibility criteria involving the poverty guidelines), contact the Office of the Director, Division of Facilities Compliance and Recovery, Health Resources and Services Administration, HHS, Room 10-105, Parklawn Building, 5600 Fishers Lane, Rockville, Maryland 20857. To speak to a person, call (301) 443-5656. To receive a Hill-Burton information package, call 1-800-638-0742 (for callers outside Maryland) or 1-800-492-0359 (for callers in Maryland), and leave your name and address on the Hotline recording. Persons with Internet access may visit the Division of Facilities Compliance and Recovery Internet Home page site at http://www.hrsa.gov/osp/dfcr. The Division of Facilities Compliance and Recovery notes that as set by 42 CFR 124.505(b), the effective date of this update of the poverty guidelines for facilities obligated under the Hill-Burton Uncompensated Services Program is sixty days from the date of this publication.

For information about the percentage multiple of the poverty guidelines to be used on immigration forms such as USCIS Form I-864, Affidavit of Support, contact U.S. Citizenship and Immigration Services. To obtain information on the most recent applicable poverty guidelines from U.S. Citizenship and Immigration Services, call 1-800-375-5283. Persons with Internet access may obtain the information from the U.S. Citizenship and Immigration Services Internet site at http://uscis.gov/graphics/howdoi/affsupp.htm.

For information about the Department of Labor's Lower Living Standard Income Level (an alternative eligibility criterion with the poverty guidelines for certain programs under the Workforce Investment Act of 1998), contact Janeice Youngblood, Employment and Training Administration, U.S. Department of Labor—telephone: (202) 693-3606—e-mail: youngblood.janeice@dol.gov; persons with Internet access may visit the Employment and Training Administration's Lower Living Standard Income Level Internet site at http://www.doleta.gov/llsil.

For information about the number of people in poverty since 1959 or about the Census Bureau poverty thresholds, contact the Housing and Household Economic Statistics Division information staff (HHES-Info), Room G251, Federal Office Building #3, U.S. Census Bureau, Washington, DC 20233-8500—telephone: (301) 763-3242. Persons with Internet access may visit the Poverty section of the Census Bureau's Internet site at http://www.census.gov/hhes/www/poverty.html or the U.S. Census Bureau Question and Answer Center at http://ask.census.gov.

Persons in family unit | Poverty guideline
2005 Poverty Guidelines for the 48 Contiguous States and the District of Columbia
1 | $9,570
2 | 12,830
3 | 16,090
4 | 19,350
5 | 22,610
6 | 25,870
7 | 29,130
8 | 32,390
For family units with more than 8 persons, add $3,260 for each additional person.
2005 Poverty Guidelines for Alaska
1 | $11,950
2 | 16,030
3 | 20,110
4 | 24,190
5 | 28,270
6 | 32,350
7 | 36,430
8 | 40,510
For family units with more than 8 persons, add $4,080 for each additional person.
2005 Poverty Guidelines for Hawaii
1 | $11,010
2 | 14,760
3 | 18,510
4 | 22,260
5 | 26,010
6 | 29,760
7 | 33,510
8 | 37,260
For family units with more than 8 persons, add $3,750 for each additional person.
Separate poverty guideline figures for Alaska and Hawaii reflect Office of Economic Opportunity administrative practice beginning in the 1966-1970 period. Note that the Census Bureau poverty thresholds—the version of the poverty measure used for statistical purposes—have never had separate figures for Alaska and Hawaii. The poverty guidelines are not defined for Puerto Rico, the U.S. Virgin Islands, American Samoa, Guam, the Republic of the Marshall Islands, the Federated States of Micronesia, the Commonwealth of the Northern Mariana Islands, and Palau. In cases in which a Federal program using the poverty guidelines serves any of those jurisdictions, the Federal office that administers the program is responsible for deciding whether to use the contiguous-states-and-D.C. guidelines for those jurisdictions or to follow some other procedure.

The preceding figures are the 2005 update of the poverty guidelines required by section 673(2) of the Omnibus Budget Reconciliation Act (OBRA) of 1981 (Pub. L. 97-35—reauthorized by Pub. L. 105-285, Section 201 (1998)). As required by law, this update reflects last year's change in the Consumer Price Index (CPI-U); it was done using the same procedure used in previous years. (The poverty guidelines are calculated each year from the latest published Census Bureau poverty thresholds—not from the previous year's guidelines. Besides the inflation adjustment, the guidelines are also rounded and adjusted to standardize the differences between family sizes.)

Section 673(2) of OBRA-1981 (42 U.S.C. 9902(2)) requires the use of these poverty guidelines as an eligibility criterion for the Community Services Block Grant program. The poverty guidelines are also used as an eligibility criterion by a number of other Federal programs (both HHS and non-HHS). Due to confusing legislative language dating back to 1972, the poverty guidelines have sometimes been mistakenly referred to as the “OMB” (Office of Management and Budget) poverty guidelines or poverty line. In fact, OMB has never issued the guidelines; the guidelines are issued each year by the Department of Health and Human Services. The poverty guidelines may be formally referenced as “the poverty guidelines updated periodically in the Federal Register by the U.S. Department of Health and Human Services under the authority of 42 U.S.C. 9902(2).”

The poverty guidelines are a simplified version of the poverty thresholds that the Census Bureau uses for statistical purposes—to prepare its estimates of the number of persons and families in poverty. The poverty guidelines issued by the Department of Health and Human Services are used for administrative purposes—for instance, for determining whether a person or family is financially eligible for assistance or services under a particular Federal program. Since the poverty guidelines in this notice—the 2005 guidelines—reflect price changes through calendar year 2004, they are approximately equal to the poverty thresholds for calendar year 2004 which the Census Bureau expects to issue in August 2005. (A preliminary version of the 2004 thresholds is now available from the Census Bureau.)

In certain cases, as noted in the relevant authorizing legislation or program regulations, a program uses the poverty guidelines as only one of several eligibility criteria, or uses a percentage multiple of the guidelines (for example, 125 percent or 185 percent of the guidelines). Non-Federal organizations that use the poverty guidelines under their own authority in non-Federally-funded activities can choose to use a percentage multiple of the guidelines such as 125 percent or 185 percent.

In some cases, these poverty guidelines may not become effective for a particular program until a regulation or notice specifically applying to the program in question has been issued.

The poverty guidelines given above should be used for both farm and non-farm families. Similarly, these guidelines should be used for both aged and non-aged units. The poverty guidelines have never had an aged/non-aged distinction; only the Census Bureau poverty thresholds have separate figures for aged and non-aged one-person and two-person units.

Note that this notice no longer provides definitions of “income,” “family,” “unrelated individual,” and “household.” This is because there are no universal administrative definitions of these terms that are valid for all programs that use the poverty guidelines. Since the definitions previously included were illustrative only and were not meant to be binding, it was decided to omit them. To find out whether income is before taxes or after taxes, or whether a particular type of income should be counted in determining eligibility for a specific program, or for what time period income should be counted, or what precise definition of “family” or “household” is used by a particular program, or whether a particular person should be counted in determining income eligibility, please consult the office or organization administering the program in question; that office or organization has the responsibility for making decisions about such definitions (to the extent that the definition is not already contained in legislation or regulations).

Dated: February 14, 2005.
Michael O. Leavitt,
Secretary of Health and Human Services.

[FR Doc. 05-3144 Filed 2-15-05; 12:57 pm]

BILLING CODE 4154-05-P